NUCLEAR REGULATORY COMMISSION

[Docket Nos.: 70-7003, 70-7004; NRC-2009-0177]

USEC, Inc.; American Centrifuge Plant; American Centrifuge Lead Cascade Facility; Notice of Withdrawal of License Transfer Application and Consideration of Approval of Application Regarding Proposed Corporate Restructuring and Conforming Amendment

The U.S. Nuclear Regulatory Commission (NRC) has granted a request from USEC Inc. (USEC) to withdraw its February 10, 2009 (Agencywide Documents Access and Management System [ADAMS] Accession No. ML090850065), request for written consent to transfer control of Material Licenses SNM-7003 and SNM-2011 (American Centrifuge Lead Cascade Facility [LCF] and American Centrifuge Plant [ACP], respectively) from USEC to a subsidiary limited liability company (LLC) under the provisions of 10 Code of Regulations (CFR) 70.36. The request was supplemented by letters dated June 12, 2009 (ADAMS Accession No. ML091670085, Supplement to Request for Written Consent to Transfer of Licenses), and June 17, 2009 (ADAMS Accession No. ML091970393, Draft Financial Assurance Instrument Associated with Request for Transfer of Licenses).

Under their request, USEC proposed to modify its existing corporate structure and requested NRC consent to transfer control of Material Licenses SNM-7003 and SNM-2011 from USEC Inc. to the subsidiary American Centrifuge Operating, LLC. In addition, USEC requested NRC approval of changes to the LCF and the ACP Material Licenses, license applications, and security program documents to reflect the changes in USEC's corporate structure. No physical or operational changes to the LCF or the ACP were being proposed.

The NRC had previously issued a Notice of Consideration of the Receipt of a License Transfer Application and Consideration of Approval of Application Regarding Proposed Corporate Restructuring and Conforming Amendment and Opportunity to Provide Comments and Request a Hearing in the Federal Register on April 24, 2009 (74 FR 18749). However, by letter dated November 25, 2009 (ADAMS Accession No. ML093350026), USEC withdrew its request.

For further details with respect to this action, see USEC's request dated February 10, 2009, the supplemental letter dated June 12, 2009, and the licensee's letter dated November 25, 2009, which withdrew the request for consent to transfer control of Material Licenses SNM-7003 and SNM-2011. Documents may be examined, and/or copied for a fee, at the NRC's Public Document Room (PDR), located at One White Flint North, Room O1 F21, 11555 Rockville Pike (first floor), Rockville, Maryland. Publicly available records will be accessible electronically from the ADAMS Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 11th day of December, 2009.
For the Nuclear Regulatory Commission.
Osiris Siurano,
Project Manager, Uranium Enrichment Branch, Division of Fuel Cycle Safety and Safeguards, Office of Nuclear Material Safety and Safeguards.

[FR Doc. E9-30029 Filed 12-16-09; 8:45 am]

BILLING CODE 7590-01-P